ENVIRONMENTAL PROTECTION AGENCY

[FRL-6580-7]

National Drinking Water Advisory Council Notice of Open Meeting

AGENCY: Environmental Protection Agency (EPA).

ACTION: Notice.

SUMMARY: Under section 10(a)(2) of Public Law 92-423, “The Federal Advisory Committee Act,” notice is hereby given that a meeting of the National Drinking Water Advisory Council established under the Safe Drinking Water Act, as amended (42 U.S.C.S3300f et seq.), will be held on May 10, 2000, from 9 a.m. until 5 p.m., May 11, 2000, from 8:30 a.m. until 1:15 p.m., at the Sir Francis Drake Hotel, 450 Powell Street, San Francisco, California. Panel discussions will be held on sensitive subpopulations and the CALFED Bay Delta Program. Other agenda items include a regulatory update, final report from the Small Systems Implementation Working Group, interim report from the Contaminant Candidate List/Six Year Review Working Group, Source Water Strategy and follow up actions to the Futures Forum held in December 1999.

The meeting is open to the public. The Council encourages the hearing of outside statements and will allocate one hour for this purpose. Oral statements will be limited to five minutes, and it is preferred that only one person present the statement. Any outside parties interested in presenting an oral statement should petition the Council by telephone at (202) 260-2285 before May 4, 2000.

Any person who wishes to file a written statement can do so before or after a Council meeting. Written statements received prior to the meeting will be distributed to all members of the Council before any final discussion or vote is completed. Any statements received after the meeting will become part of the permanent meeting file and will be forwarded to the Council members for their information.

Members of the public that would like to attend the meeting, present an oral statement, or submit a written statement, should contact Ms. Charlene Shaw, Designated Federal Officer, National Drinking Water Advisory Council, U.S. EPA, Office of Ground Water and Drinking Water (4601), 401 M Street SW., Washington, D.C. 20460. The telephone number is Area Code (202) 260-2285 or E-Mail shaw.charlene@epa.gov.

Dated: April 12, 2000.
Cynthia C. Dougherty,
Director, Office of Ground Water and Drinking Water.

[FR Doc. 00-9662 Filed 4-17-00; 8:45 am]

BILLING CODE 6560-50-P